DEPARTMENT OF DEFENSE

[DOD-2006-OS-0121]

Defense Finance and Accounting Service; Privacy Act of 1974; Systems of Records

AGENCY: Defense Finance and Accounting Service.

ACTION: Notice to add a new system of records.

SUMMARY: The Defense Finance and Accounting Service (DFAS) is proposing to add a system of records notice to its inventory of record systems subject to the Privacy Act of 1974, (5 U.S.C. 552a), as amended.

DATES: This Action will be effective without further notice on July 17, 2006 unless comments are received that would result in a contrary determination.

ADDRESSES: Send comments to the FOIA/PA Program Manager, Corporate Communications and Legislative Liaison, Defense Finance and Accounting Service, 6760 E. Irvington Place, Denver, CO 90279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on June 6, 2006, to the House Committee on Government Reform, the Senate Committee on Governmental Affairs, and the Office of Management and Budget (OMB) pursuant to paragraph 4c of Appendix I to OMB Circular No. A-130, “Federal Agency Responsibilities for Maintaining Records About Individuals,” dated December 12, 2000, 65 FR 239.

Dated: June 12, 2006.
C.R. Choate,
Alternate OSD Federal Register Liaison Officer, Department of Defense.

T7336

System name:

MyPay System.

System location:

Defense Finance and Accounting Service—Cleveland, 1240 East Ninth Street, Cleveland, OH 44199.

Office of Personnel Management, 4685 Log Cabin Drive, Macon, GA 31204-6317.

Categories of individuals covered by the system:

Active Duty and Reserve military personnel, members of the National Guard, military academy cadets, Naval Reserve Officer Training Corps students, and Armed Forces Health Professions Scholarship Program (AFHPSP) students.

All DoD civilian employees paid by appropriated funds.

All Army nonappropriated fund instrumentalities employees paid by nonappropriated funds.

Military retirees, their former spouses (Former Spouse Protection Act (FSPA) Claimants), and annuitants.

Executive Office of the President employees.

Department of Health and Human Services employees.

Department of Energy employees.

Categories of records in the system:

Individual's Name, Social Security Number, employing DoD and other Federal agencies, military branch of service, status (as appropriate), and e-mail addresses are maintained in the Master PIN Database (MPDB).

Authority for maintenance of the system:

5 U.S.C. 301, Departmental Regulations; 5 U.S.C. Chapter 53, 55, and 81; and E.O. 9397 (SSN).

Purpose(s):

The MyPay System is a combination Internet (WEB) based and interactive voice response telephonic system (IVRS) designed to allow authorized individuals the ability to retrieve, review and update payroll information from their specific payroll system(s). Records are also used for extraction or compilation of data and reports for management studies and statistical analyses for use internally or externally as required by DoD or other government agencies.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal, State, and local agencies for the purpose of conducting computer matching programs regulated by the Privacy Act of 1974, as amended, (5 U.S.C. 552a).

To individuals authorized to receive retired and annuitant payments on behalf of retirees or annuitants.

To former spouses for purposes of providing information, consistent with requirements of 10 U.S.C. 1050(f)(3).

The `Blanket Routine Uses' published at the beginning of the DFAS compilation of systems of records notices apply to this system.

POLICIES AND PRACTICES FOR STORING, RETRIEVING, ACCESSING, RETAINING, AND DISPOSING OF RECORDS IN THE SYSTEM:

STORAGE:

Maintained in file folders and electronic databases.

RETRIEVABILITY:

Retrieved by name and Social Security Number of the individual.

SAFEGUARDS:

Records are maintained in a controlled facility. Physical entry is restricted by the use of locks, guards, and is accessible only to authorized personnel. Access to records is limited to person(s) responsible for servicing the records in performance of their official duties and who are properly screened and cleared for need-to-know. Access to computerized data is restricted by passwords, which are changed according to agency security policy.

RETENTION AND DISPOSAL:

Records may be temporary in nature and destroyed when actions are completed, they are superseded, obsolete, or no longer needed. Other records may be cut off at the end of the payroll year, destroyed up to 6 years and 3 months after cutoff.

SYSTEM MANAGER(S) AND ADDRESS:

System Manager, Defense Finance and Accounting Service—Cleveland, (DFAS-TSBCA/CL), 1240 East Ninth Street, Cleveland, OH 44199-2055.

Notification procedure:

Individuals seeking to determine whether information about themselves is contained in this record system should address written inquiries to the Defense Finance and Accounting Service, Freedom of Information/Privacy Act Program Manager, Corporate Communications and Legislative Liaison, 6760 E. Irvington Place, Denver, CO 80279-8000.

Individuals should furnish full name, Social Security Number, current address, and telephone number.

Record access procedures:

Individuals seeking access to information about themselves contained in this system should address written inquiries to Defense Finance and Accounting Service, Freedom of Information/Privacy Act Program Manager, Corporate Communications and Legislative Liaison, 6760 E. Irvington Place, Denver, CO 80279-8000.

Individuals should furnish full name, Social Security Number, current address, and telephone number.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From the individual concerned, Federal other DoD Components.

Exemptions claimed for the system:

None.

[FR Doc. 06-5451 Filed 6-15-06; 8:45 am]

BILLING CODE 5001-06-M